ENVIRONMENTAL PROTECTION AGENCY

[OPP-2004-0402; FRL-7718-6]

Response to Requests to Cancel Certain Pentachlorophenol (PCP) Wood Preservative Products, and/or to Amend to Terminate Certain Uses of Other Pentachlorophenol Products

AGENCY: Environmental Protection Agency (EPA).

ACTION: Notice of Cancellations and Use Terminations.

SUMMARY: This notice announces that cancellation orders were signed on February 17, 2005, in response to the use terminations and cancellations voluntarily requested by the registrants of certain wood preservative products containing pentachlorophenol pursuant to section 6(f)(1) of the Federal Insecticide, Fungicide, and Rodenticide Act (FIFRA), as amended. EPA issued final cancellation order letters to two registrants of pentachlorophenol products accepting their voluntary use termination requests/product cancellation requests to either amend current label language to delete spray uses for the products or to cancel the affected products. Both the use terminations and the product cancellations were effective February 17, 2005.

This notice of cancellations and use terminations follows a January 6, 2005 Federal Register Notice of Receipt of Requests to Cancel Registrations of Certain Pentacholorophenol Wood Preservative Products, and/or Amend Registrations to Terminate Certain Uses of Pentachlorophenol Products.

DATES: The effective date of the voluntary product cancellations and/or use terminations for the affected pentachlorophenol products is February 17, 2005.

FOR FURTHER INFORMATION CONTACT: Heather A. Garvie, Antimicrobials Division (7510C), Office of Pesticide Programs, Environmental Protection Agency, 1200 Pennsylvania Ave., NW., Washington, DC 20460-0001; telephone number: 703-308-0034; fax number: (703) 308-8481; e-mail address: garvie.heather@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPP-2004-0402. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces that the Agency issued cancellation orders cancelling certain pentachlorophenol (PCP) wood preservative products, and terminating certain uses of other pentachlorophenol products, as requested by the registrants. The Agency received letters from Vulcan Chemicals, dated September 13, 2004, requesting that two of its registrations be amended to terminate spray uses. The Agency also received a letter from Roger C. Jackson, dated December 14, 2004, on behalf of KMG Chemicals Inc., requesting voluntary cancellation of two of its wood preservative products, Pentacon 40 and Penwar. KMG Chemicals, Inc. asked for no provision for existing stocks. Vulcan Chemicals asked to be allowed to sell and distribute existing stocks for a period of 18 months after the issuance of the cancellation order terminating spray uses of its products. Vulcan noted in its request that its customers use the affected products only for pressure-treatment or thermal-treatment and not for spray use. Both registrants waived the 180-day comment period (i.e., any comment period in excess of 30 days). The following pentachlorophenol product registrations are affected by the cancellation orders:

Table 1.—Cancellation of Registrations for Wood Preservative Products
EPA Registration No. | Product Name
61483-55 | Penwar
61483-56 | Pentacon 40

Table 2.—Amendments to Terminate Spray Uses
EPA Registration No. | Product Name
5382-16 | Vulcan GLAZD Penta Pentachlorophenol
5382-36 | Vulcan Premium Four Pound (PCP-2) Concentrate

Table 3.—Registrants of Cancelled and/or Amended Pentachlorophenol Products
EPA Company No. | Company Name and Address
5382 | Vulcan Chemicals PO Box 385015 Birmingham, Alabama 35259-5015
61483 | KMG Chemicals, Inc. 10611 Harwin Drive, Suite 402 Houston, Texas 77036-1534

III. Summary of Public Comments Received and Agency Response to Comments

During the public comment period provided, EPA received no comments in response to the January 6, 2005 Federal Register notice announcing the Agency's receipt of the request(s) for voluntary cancellations and/or amendments to terminate certain uses of pentachlorophenol.

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

V. Provisions for Disposition of Existing Stocks

Existing stocks are those stocks of registered pesticide products which are currently in the United States and which were packaged, labeled, and released for shipment prior to the effective date of the cancellation action. The cancellation orders issued on February 17, 2005 include the following existing stocks provisions:

KMG Chemicals, Inc. requested that the voluntary cancellations become effective as soon as possible with no provisions for existing stocks for the registrant. Consequently, the Agency is not allowing for any existing stock provisions for those products in the hands of the registrant on the effective date of cancellation. Any sale, distribution, or use by the registrant of these affected products, i.e., Pentacon 40 and Penwar, on or after the effective date of this cancellation order is prohibited.

Vulcan Chemicals is permitted to sell and distribute existing stocks (those that bear the spray use on the label) for a period of 18 months after the issuance of the cancellation order terminating spray uses of Vulcan GLAZD, Penta, Pentachlorophenol, and Vulcan Premium Four Pound (PCP-2) Concentrate, to allow sufficient time to implement amended labeling. Any sale, distribution, or use by the registrant of existing stocks after this period is prohibited. According to Vulcan Chemicals, its customers are not using the products for any treatment other than pressure treatment or thermal treatment.

Existing stocks already in the hands of persons other than the registrant can be distributed, sold, or used legally until they are exhausted, provided that such further sale and use comply with the EPA-approved label of the affected product.

For purposes of this Order, the term “existing stocks” is defined, pursuant to EPA's existing stocks policy (56 FR 29362, June 26, 1991), as those stocks of a registered pesticide product which are currently in the United States and which have been packaged, labeled, and released for shipment prior to the effective date of the cancellation or amendment. Any distribution, sale or use of existing stocks in a manner inconsistent with the terms of the cancellation order or the existing stocks provisions contained in the order will be considered a violation of section 12(a)(2)(K) and/or section 12(a)(1)(A) of FIFRA.

List of Subjects

Environmental Protection, Pentachlorophenol, Pesticides and Pests.

Dated: June 13, 2005.
Frank Sanders,
Director, Antimicrobials Division, Office of Pesticide Programs.

[FR Doc. 05-12359 Filed 6-21-05; 8:45 am]

BILLING CODE 6560-50-S